DEPARTMENT OF LABOR

Employment and Training Administration

[TA-W-62,571]

France/A Scott Fetzer Co., Including On-Site Leased Workers of Personnel Management, Inc. (PMI), Fairview, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 8, 2008, applicable to workers of France/A Scott Fetzer Co., including on-site leased workers of Personnel Management, Inc. (PMI), Fairview, Tennessee. The notice was published in the Federal Register on February 22, 2008 (73 FR 9835).

At the request of the State agency, the Department reviewed the certification for workers of the subject firm. The workers were engaged in the production of transformers and ballasts.

New information shows that there was a previous certification, TA-W-55,205, issued on January 26, 2005, for the workers of the France/A Scott Fetzer Co., Fairview, Tennessee. That certification expired January 26, 2007. To avoid an overlap in worker group coverage for the workers of the Fairview, Tennessee location, the certification is being amended to change the impact date from December 10, 2006 to January 27, 2007.

Accordingly, the Department is amending the certification to properly reflect these matters.

The intent of the Department's certification is to include all workers of France/A Scott Fetzer Co. who were adversely affected by increased customer imports.

The amended notice applicable to TA-W-62,571 is hereby issued as follows:

All workers of France/A Scott Fetzer Co., including on-site leased workers of Personnel Management, Inc. (PMI), Fairview, Tennessee, who became totally or partially separated from employment on or after January 27, 2007 through February 8, 2010, are eligible to apply for adjustment assistance under Section 223 of the Trade Act of 1974, and are also eligible to apply for alternative trade adjustment assistance under Section 246 of the Trade Act of 1974.

Signed at Washington, DC, this 26th day of February 2008.
Elliott S. Kushner,
Certifying Officer, Division of Trade Adjustment Assistance.

[FR Doc. E8-4443 Filed 3-6-08; 8:45 am]

BILLING CODE 4510-FN-P